Title 3—

The President

Proclamation 10651 of October 10, 2023

General Pulaski Memorial Day, 2023

By the President of the United States of America

A Proclamation

Today, we celebrate the life and legacy of General Casimir Pulaski—whose story is forever woven into our Nation's fight for independence and who remains a source of inspiration for all those standing for the cause of freedom around the world.

Born and raised in Warsaw, General Pulaski long fought against the Russian domination of Poland. In 1777—after learning of our young Nation's aspiration for independence—he stepped up to serve alongside American soldiers in the Revolutionary War, including leading a critical counterattack that helped slow British advances. In 1779, General Pulaski made the ultimate sacrifice for our country—giving his life so that our Nation and our ideas of freedom, equality, and democracy might live.

General Pulaski's heroism represents just one of the countless contributions that Polish people have made to promote liberty around the world—contributions we continue to see today. Since Russia's brutal full-scale invasion of Ukraine last year, the world has witnessed countless acts of courage and conviction by the people of Poland for the causes of freedom and human decency. They have donated tanks, artillery, and aircraft to support Ukraine's self-defense and have become a key hub for aid from other partners. As I have seen first-hand during my trips to Poland these past 2 years, they have embraced Ukrainian refugees during this dark moment, offering them safety, hope, and light.

General Pulaski famously wrote to George Washington regarding the fight for our independence, “I came here, where freedom is being defended, to serve it, and to live or die for it.” He laid down his life, not for a place, person, or President but for an idea unlike any other idea in all of human history—the idea of the United States of America, a citadel of liberty and beacon of freedom. As we pay tribute to his life and service, may we also honor our friends in Poland and our vibrant Polish American community, which continues to uphold his legacy and keep the flame of freedom burning bright.

NOW, THEREFORE, I, JOSEPH R. BIDEN JR., President of the United States of America, by virtue of the authority vested in me by the Constitution and laws of the United States, do hereby proclaim October 11, 2023, as General Pulaski Memorial Day. I encourage all Americans to commemorate this occasion with appropriate programs and activities paying tribute to General Casimir Pulaski and honoring all those who champion freedom around the world.

IN WITNESS WHEREOF, I have hereunto set my hand this tenth day of October, in the year of our Lord two thousand twenty-three, and of the Independence of the United States of America the two hundred and forty-eighth.

[FR Doc. 2023-22828

Filed 10-12-23; 11:15 am]

Billing code 3395-F4-P